COMMISSION ON CIVIL RIGHTS

Notice of Public Meeting of the South Dakota Advisory Committee; Cancellation

AGENCY: Commission on Civil Rights.

ACTION: Notice; cancellation of meeting date.

SUMMARY: The Commission on Civil Rights published a notice in the Federal Register concerning a meeting of the South Dakota Advisory Committee. The meeting scheduled for Monday, October 18, 2021, at 3:30 p.m. (CT) is cancelled. The notice is in the Federal Register of Monday, August 23, 2021, in FR Doc. 2021-17987, in the first, second and third columns of page 47053.

FOR FURTHER INFORMATION CONTACT: Mallory Trachtenberg, (202) 809-9618, mtrachtenberg@usccr.gov.

Dated: October 5, 2021.
David Mussatt,
Supervisory Chief, Regional Programs Unit.

[FR Doc. 2021-22057 Filed 10-7-21; 8:45 am]

BILLING CODE P